DEPARTMENT OF DEFENSE

Office of the Secretary

Federal Advisory Committee; Defense Health Board (DHB) Meeting

AGENCY: Department of Defense (DoD).

ACTION: Notice of meeting.

SUMMARY: Pursuant to the Federal Advisory Committee Act of 1972 (5 U.S.C., Appendix as amended), the Sunshine in the Government Act of 1976 (5 U.S.C. 552b, as amended), and 41 CFR 102-3.150, and in accordance with Section 10(a)(2) of Public Law, DoD announces that the Defense Health Board (DHB) will meet March 7 and 8, 2011, in Herndon, Virginia.

DATES: the meeting will be held on the following dates and times—

March 7, 2011

9 a.m.-5 p.m. (Administrative Working Meeting)

March 8, 2011

9 a.m.-11:45 a.m. (Open Session)

11:45 a.m.-12:45 p.m. (Administrative Working Meeting)

12:45 p.m.-2 p.m. (Open Session)

ADDRESSES: The meeting will be held at the Hilton Washington Dulles Hotel, 13869 Park Center Road, Herndon, Virginia, 20171

FOR FURTHER INFORMATION CONTACT: Ms. Christine Bader, Director, Defense Health Board, Five Skyline Place, 5111 Leesburg Pike, Suite 810, Falls Church, Virginia 22041-3206, (703) 681-8448, Ext. 1215, Fax: (703) 681-3317, Christine.bader@tma.osd.mil.

SUPPLEMENTARY INFORMATION: Additional information, including agenda updates and meeting registration are available online at the Defense Health Board (DHB) Web site: http://www.ha.osd.mil/dhb. The public is encouraged to register early for the meeting to ensure adequate space is available for attendees.

Purpose of the Meeting

The purpose of the meeting is for the Board to address and deliberate both pending and new issues and receive briefings on topics related to new or ongoing Board business.

Agenda

On March 7, 2011, the DHB meeting will consist of an administrative session for newly appointed Board members. On March 8, 2011, the DHB will receive briefings regarding military health needs and priorities. The following Defense Health Board Subcommittees will present updates to the Board: Trauma and Injury, Psychotropic Medication and Complementary and Alternative Medicine Work Groups, and Medical Ethics. Additionally, the Board will receive an information brief regarding the Defense Centers of Excellence for Psychological Health and Traumatic Brain Injury (DCoE). The Board will vote on a recommendation regarding the proposed research priorities of the Trauma and Injury Subcommittee.

Pursuant to 5 U.S.C. 552b, as amended, and 41 CFR 102-3.140 through 102-3.165, the Defense Health Board meeting scheduled on March 7, 2011, from 9 a.m. to 5 p.m. will be an administrative session and is therefore not open to the public. On March 8, 2011, from 9 a.m. to 11:45 a.m. and 12:45 p.m. to 2 p.m., the DHB meeting will be open to the public.

Written Statements

Any member of the public wishing to provide input to the Defense Health Board should submit a written statement in accordance with 41 CFR 102-3.140(C) and section 10(a)(3) of the Federal Advisory Committee Act, and the procedures described in this notice. Written statements should address the following details: the issue, discussion, and a recommended course of action. Supporting documentation may also be included as needed to establish the appropriate historical context and to provide any necessary background information.

Individuals desiring to submit a written statement may do so through the Board's Designated Federal Officer (see FOR FURTHER INFORMATION CONTACT) at any point. If the written statement is not received at least 10 calendar days prior to the meeting, which is subject to this notice, the Designated Federal Officer may choose not to provide it to the Defense Health Board until the next open meeting.

The Designated Federal Officer will review all timely submissions with the Defense Health Board Chairperson, and ensure they are provided to members of the Defense Health Board before the meeting that is subject to this notice. After reviewing the written comments, the Chairperson and the Designated Federal Officer may choose to invite the submitter of the comments to orally present their issue during an open portion of this meeting or at a future meeting.

The Designated Federal Officer, in consultation with the Defense Health Board Chairperson, may, if desired, allot a specific amount of time for members of the public to present their issues for review and discussion by the Defense Health Board. Written statements may be mailed to the address under FOR FURTHER INFORMATION CONTACT, e-mailed to dhb@ha.osd.mil or faxed to (703) 681-3317.

Special Accommodations

If special accommodations are required to attend (sign language, wheelchair accessibility) please contact Ms. Lisa Jarrett at (703) 681-8448 Ext. 1280 by February 25, 2010.

Dated: January 20, 2011.
Morgan F. Park,
Alternate OSD Federal Register Liaison Officer, Department of Defense.

[FR Doc. 2011-1951 Filed 1-28-11; 8:45 am]

BILLING CODE 5001-06-P